DEPARTMENT OF VETERANS AFFAIRS

Veterans' Advisory Committee on Rehabilitation, Notice of Charter Renewal

This gives notice under the Federal Advisory Committee Act, 5 U.S.C., dated October 6, 1972, that the Veterans' Advisory Committee on Rehabilitation has been renewed for a 2-year period beginning April 20, 2015, through April 20, 2017.

Dated: April 20, 2015.
Rebecca Schiller,
Committee Management Officer.

[FR Doc. 2015-11390 Filed 5-11-15; 8:45 am]

BILLING CODE 8320-01-P